COMMITTEE FOR THE IMPLEMENTATION OF TEXTILE AGREEMENTS

Determination Under the Textile and Apparel Commercial Availability Provision of the Dominican Republic-Central America-United States Free Trade Agreement (“CAFTA-DR Agreement”)

AGENCY: Committee for the Implementation of Textile Agreements.

ACTION: Determination to add a product in unrestricted quantities to Annex 3.25 of the CAFTA-DR Agreement.

DATES: Effective Date: April 25, 2017.

SUMMARY: The Committee for the Implementation of Textile Agreements (“CITA”) has determined that certain woven modal-polyester print fabric, as specified below, is not available in commercial quantities in a timely manner in the CAFTA-DR countries. The product will be added to the list in Annex 3.25 of the CAFTA-DR Agreement in unrestricted quantities.

FOR FURTHER INFORMATION CONTACT: Maria Goodman, Office of Textiles and Apparel, U.S. Department of Commerce, (202) 482-3651.

For Further Information Online: http://web.ita.doc.gov/tacgi/CaftaReqTrack.nsf under “Approved Requests,” Reference number: 208.2017.03.20.Fabric.BWAandDillards

SUPPLEMENTARY INFORMATION: Authority: The CAFTA-DR Agreement; Section 203(o)(4) of the Dominican Republic-Central America-United States Free Trade Agreement Implementation Act (“CAFTA-DR Implementation Act”), Public Law 109-53; the Statement of Administrative Action, accompanying the CAFTA-DR Implementation Act; and Presidential Proclamations 7987 (February 28, 2006) and 7996 (March 31, 2006).

Background

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25.4 and 3.25.5, when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“CITA's procedures”).

On March 20, 2017, the Chairman of CITA received a request for a Commercial Availability determination (“Request”) from BWA Inc. (“BWA”) and Dillard's Inc. for certain woven modal-polyester print fabric. On March 21, 2017, in accordance with CITA's procedures, CITA notified interested parties of the Request, which was posted on the dedicated Web site for CAFTA-DR Commercial Availability proceedings. In its notification, CITA advised that any Response with an Offer to Supply (“Response”) must be submitted by April 3, 2017, and any Rebuttal Comments to a Response must be submitted by April 7, 2017, in accordance with sections 6 and 7 of CITA's procedures. No interested entity submitted a Response to the Request advising CITA of its objection to the Request and its offer to supply the subject product. In accordance with section 203(o)(4)(C) of the CAFTA-DR Implementation Act, and section 8(c)(2) of CITA's procedures, as no interested entity submitted a Response objecting to the Request and providing an offer to supply the subject product, CITA has determined to add the specified fabric to the list in Annex 3.25 of the CAFTA-DR Agreement.

The subject product has been added to the list in Annex 3.25 of the CAFTA-DR Agreement in unrestricted quantities. A revised list has been posted on the dedicated Web site for CAFTA-DR Commercial Availability proceedings, at http://otexa.trade.gov/caftaannex325.htm.

Specifications

Certain Woven Modal-Polyester Print Fabric

HTSUS: 5516.14; 5516.24.

Fiber Content: 52-95% spun modal rayon; 5-48% filament polyester.

Yarn Size:

Spun Modal Rayon—32/1 to 88/1 (metric)

Filament Polyester—52 to 122 (metric)

Thread Count: 31 to 60 warp ends per cm (metric); 25 to 40 filling picks per cm (metric).

Weave type: Plain weave, or twill or dobby or jacquard or oxford or satin.

Weight: 100-300 grams per sq. meter.

Width: 137 to 153 cm (metric).

Coloration: Print.

Finishing processes: Sandwash in combination with or without one or more of the following: Wicking, UV blocker, peached, stain-resistant, Teflon finish, insect resistance.

Terry Labat,
Acting Chairman, Committee for the Implementation of Textile Agreements.

[FR Doc. 2017-08278 Filed 4-24-17; 8:45 am]

BILLING CODE 3510-DR-P